DEPARTMENT OF HOUSING AND URBAN DEVELOPMENT

[Docket No. FR-7001-N-17]

30-Day Notice of Proposed Information Collection: Evaluation of the Office of Public and Indian Housing's (PIH) Energy Performance Contracting (EPC) Program

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: May 25, 2018.

ADDRESSES: Interested persons are invited to submit comments regarding this proposal. Comments should refer to the proposal by name and/or OMB Control Number and should be sent to: HUD Desk Officer, Office of Management and Budget, New Executive Office Building, Washington, DC 20503; fax:202-395-5806, Email: OIRA Submission@omb.eop.gov.

FOR FURTHER INFORMATION CONTACT: Anna P. Guido, Reports Management Officer, QMAC, Department of Housing and Urban Development, 451 7th Street SW, Washington, DC 20410; email Anna P. Guido at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on July 22, 2016 at 81 FR 47813.

A. Overview of Information Collection

Title of Information Collection: Evaluation of the Office of Public and Indian Housing's (PIH) Energy Performance Contracting (EPC) Program.

OMB Approval Number: 2528—New.

Type of Request: New.

Form Number: N/A.

Description of the Need for the Information and Proposed Use: The information is being collected to explore and document the effectiveness and value of HUD's Energy Performance Contracting (EPC) program. EPCs are an innovative financing technique designed to provide Public Housing Authorities (PHAs) with cost-effective energy improvements that are installed with little or no up-front expenditures, wherein the costs of the improvements are typically borne by the performance contractor and repaid using a portion of the cost savings resulting from the improvements. Since this type of financing began in the 1980s, HUD has approved approximately 315 EPCs totaling nearly $1.5 billion in investments. EPCs have been executed in all ten HUD regions in very small (less than 250 units) to very large (more than 6,599 units) PHAs; however, to date; no substantive review of the program's performance has been conducted. The proposed data collection instrument is a web-based survey that will be supported by follow-up telephone interviews to a subset of the study's participants.

Respondents (i.e., Affected Public): Employees of housing organizations receiving funding from HUD, specifically public housing authorities.

Estimated Number of Respondents/Estimated Number of Responses:

Estimated Number of Respondents Estimated Number of Responses:
Information collection | Number of respondents | Frequency of Response | Responses per annum | Burden hour per response | Annual burden hours | Hourly cost per response ¹ | Annual cost
Base Period:
Web | 299.00 | 1.00 | 299.00 | 0.33 | 98.67 | $34.79 | $3,432.73
Telephone | 28.00 | 1.00 | 28.00 | 1.00 | 28.00 | 34.79 | 974.12
Total | 327.00 |  | 327.00 |  | 126.67 | 34.79 | 4,406.85
Option Period:
Web | 136.00 | 1.00 | 136.00 | 0.33 | 44.88 | 34.79 | 1,561.38
Telephone | 18.00 | 1.00 | 18.00 | 1.00 | 18.00 | 34.79 | 626.22
Total | 154.00 |  |  |  | 62.88 | 34.79 | 2,187.60
Total | 481.00 |  |  |  | 189.55 | 34.79 | 6,594.45
¹ The Bureau of Labor Statistics National Compensation Survey reported estimates that in 2017, the average property manager made about $34.79/hour (see https://www.bls.gov/oes/current/oes_nat.htm).

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: April 18, 2018.
Anna P. Guido,
Department Reports Management Officer, Office of the Chief Information Officer.

[FR Doc. 2018-08579 Filed 4-24-18; 8:45 am]

BILLING CODE 4210-67-P